NATIONAL AERONAUTICS AND SPACE ADMINISTRATION

[NASA Document No: NASA-24-076]

Astrophysics Advisory Committee; Correction

AGENCY: National Aeronautics and Space Administration.

ACTION: Notice of meeting, correction.

SUMMARY: NASA published a document in the Federal Register on October 29, 2024 concerning an Astrophysics Advisory Committee Meeting. The document needs to be updated to add language regarding the need to publish this notice less than 15 calendar days before meeting date.

FOR FURTHER INFORMATION CONTACT: Jamie Krauk, 202-358-5210.

SUPPLEMENTARY INFORMATION:

Correction

In the Federal Register of October 29, 2024, in FR Doc. 2024-25082, on page 85989, in the second column, add a final paragraph to the SUPPLEMENTARY INFORMATION section to read:

“Per § 102-3.150(b) of the FACA Final Rule, this notification is published with fewer than 15 calendar days notice as a result of exceptional circumstances that required substantive changes due to recent cybersecurity incidents.”

Emily Pellegrino,
Program Analyst, NASA Directives and Regulations.

[FR Doc. 2024-25459 Filed 10-31-24; 8:45 am]

BILLING CODE P